UNITED STATES INTERNATIONAL TRADE COMMISSION

[Investigations Nos. 701-TA-402 (Final) and 731-TA-892-893 (Final)]

Honey From Argentina and China

Determinations

On the basis of the record ¹ developed in the subject investigations, the United States International Trade Commission determines, pursuant to section 705(b) of the Tariff Act of 1930 (19 U.S.C. 1671d(b)) (the Act), and section 735(b) of the Act (19 U.S.C. 1673d(b)), that an industry in the United States is materially injured by reason of imports from Argentina and China of honey, provided for in subheadings 0409.00.00, 1702.90.00, and 2106.90.99 of the Harmonized Tariff Schedule of the United States, that have been found by the Department of Commerce to be subsidized by the Government of Argentina and sold in the United States at less than fair value (LTFV). The Commission also makes an affirmative determination that critical circumstances exist with respect to subject imports from China for which Commerce made affirmative critical circumstances determinations.²

¹ The record is defined in sec. 207.2(f) of the Commission's rules of practice and procedure (19 CFR 207.2(f)).

² Commissioners Bragg, Miller, and Devaney make affirmative critical circumstances finding with respect to subject imports from China for which Commerce made an affirmative critical circumstances determinations. Chairman Koplan, Vice Chairman Okun, and Commissioner Hillman make a negative critical circumstances finding with respect to those imports.

Background

The Commission instituted these investigations effective September 29, 2000, following receipt of a petition filed with the Commission and Commerce by the American Honey Producers Association, Bruce, South Dakota, and the Sioux Honey Association, Sioux City, Iowa. The final phase of the investigations was scheduled by the Commission following notification of preliminary determinations by Commerce that imports of honey from Argentina were being subsidized within the meaning of section 703(b) of the Act (19 U.S.C. 1671b(b)) and that imports of honey from Argentina and China were being sold at LTFV within the meaning of section 733(b) of the Act (19 U.S.C. 1673b(b)). Notice of the scheduling of the Commission's investigations and of a public hearing to be held in connection therewith was given by posting copies of the notice in the Office of the Secretary, U.S. International Trade Commission, Washington, DC, and by publishing the notice in the Federal Register of June 13, 2001 (66 FR 31948). The hearing was held in Washington, DC, on October 3, 2001, and all persons who requested the opportunity were permitted to appear in person or by counsel.

The Commission transmitted its determinations in these investigations to the Secretary of Commerce on November 19, 2001. The views of the Commission are contained in USITC Publication 3470 (November 2001), entitled Honey from Argentina and China: Investigations Nos. 701-TA-402 and 731-TA-892-893 (Final).

Issued: November 19, 2001.
By order of the Commission.
Donna R. Koehnke,
Secretary.

[FR Doc. 01-29306 Filed 11-23-01; 8:45 am]

BILLING CODE 7020-02-P